DEPARTMENT OF THE INTERIOR

National Park Service

[NPS-WASO-NRNHL-13411; PPWOCRADI0, PCU00RP14.R50000]

National Register of Historic Places; Notification of Pending Nominations and Related Actions

Nominations for the following properties being considered for listing or related actions in the National Register were received by the National Park Service before June 22, 2013. Pursuant to § 60.13 of 36 CFR Part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th Floor, Washington, DC 20005; or by fax, 202-371-6447. Written or faxed comments should be submitted by August 6, 2013. Before including your address, phone number, email address, or other personal identifying information in your comment, you should be aware that your entire comment—including your personal identifying information—may be made publicly available at any time. While you can ask us in your comment to withhold your personal identifying information from public review, we cannot guarantee that we will be able to do so.

Dated: June 27, 2013.
Alexandra Lord,
Acting Chief, National Register of Historic Places/National Historic Landmarks Program.

CALIFORNIA

Solano County

Masonic Temple—Naval Lodge No. 87, Free and Accepted Masons, 707 Marin St., Vallejo, 13000575

COLORADO

Montezuma County

Painted Hand Pueblo, (Great Pueblo Period of the McElmo Drainage Unit MPS) Address Restricted, Pleasant View, 13000576

Park County

Paris Mill, (Mining Industry in Colorado, MPS) Address Restricted, Alma, 13000574

Yuma County

Cliff Theater, 420 Main St., Wray, 13000577

FLORIDA

De Soto County

Singleton, Micajah T., House, 711 W. Hickory St., Arcadia, 13000578

Hillsborough County

Rogers Park Golf Course, 7801 N. 30th St., Tampa, 13000579

KANSAS

Rice County

Santa Fe Trail—Rice County Segment 2, (Santa Fe Trail MPS) Ave. P, .75 mi. W. of 30th Rd., Little River, 13000580

Santa Fe Trail—Rice County Segment 3, (Santa Fe Trail MPS) Address Restricted, Windom, 13000581

MASSACHUSETTS

Plymouth County

Old Burial Hill, Church, School & S. Russell Sts., Plymouth, 13000582

MICHIGAN

Mackinac County

Round Island Passage Light, (Light Stations of the United States MPS) Round Island Passage Channel, Mackinac Island, 13000583

MISSOURI

St. Charles County

Link, Oliver L. and Catherine, House, 1005 Jefferson, St. Charles, 13000584

NEW JERSEY

Gloucester County

Memorial Presbyterian Church, 202 E. Mantua Ave., Wenonah Borough, 13000585

Ocean County

Cedar Bridge Tavern, 210 Old Cedar Bridge Rd., Barnegat Township, 13000586

WISCONSIN

Manitowoc County

Klingholz, Charles and Herriette, House, 224 Mill Rd., Manitowoc Rapids, 13000587

Waukesha County

Oconomowoc High School, 623 Summit Ave., Oconomowoc, 13000588

[FR Doc. 2013-17465 Filed 7-19-13; 8:45 am]

BILLING CODE 4312-51-P